COMMITTEE FOR PURCHASE FROM PEOPLE WHO ARE BLIND OR SEVERELY DISABLED

Procurement List; Proposed Addition and Deletions

AGENCY: Committee for Purchase From People Who Are Blind or Severely Disabled.

ACTION: Proposed addition to and deletions from the Procurement List.

SUMMARY: The Committee is proposing to add service to the Procurement List that will be furnished by nonprofit agencies employing persons who are blind or have other severe disabilities, and deletes products and service previously furnished by such agencies.

DATES: Comments must be received on or before: December 27, 2017.

ADDRESSES: Committee for Purchase From People Who Are Blind or Severely Disabled, 1401 S. Clark Street, Suite 715, Arlington, Virginia 22202-4149.

FOR FURTHER INFORMATION CONTACT: For further information or to submit comments contact: Amy B. Jensen, Telephone: (703) 603-7740, Fax: (703) 603-0655, or email CMTEFedReg@AbilityOne.gov.

SUPPLEMENTARY INFORMATION: This notice is published pursuant to 41 U.S.C. 8503(a)(2) and 41 CFR 51-2.3. Its purpose is to provide interested persons an opportunity to submit comments on the proposed actions.

Addition

If the Committee approves the proposed addition, the entities of the Federal Government identified in this notice will be required to procure the service listed below from nonprofit agencies employing persons who are blind or have other severe disabilities. The following service is proposed for addition to the Procurement List for production by the nonprofit agencies listed:

Service

Service Type: Grounds Maintenance

Mandatory for: US Navy NAVFAC Mid Atlantic, Greater Sandy Run Area, Camp Davis, Onslow Beach, Wilson Bay, Hwy 24 Bell Fork foot Bridge & Verona Loop, Marine Corps Base, Camp Lejeune, NC

Mandatory Source of Supply: Coastal Enterprises of Jacksonville, Inc., Jacksonville, NC

Contracting Activity: DEPT OF THE NAVY, NAVAL FAC ENGINEERING CMD MID LANT

Deletion

The following products and service are proposed for deletion from the Procurement List:

Products

NSNs/Product Names: 9905-02-000-8089/Holder, Label, Brass 9905-02-000-8698/Holder, Label, Brass

Mandatory Source of Supply: CW Resources, Inc., New Britain, CT

Contracting Activity: U.S. Postal Service, Eagan, Eagan, MN

NSN/Product Name: 3920-02-000-1915/Bar Assembly, Door

Mandatory Source of Supply: Rauch, Inc., New Albany, IN

Contracting Activity: USPS, Topeka Purchasing Center, Topeka, KS

NSNs/Product Names:

7510-01-600-7561/Wall Calendar, Dated 2017, Wire Bound w/hanger, 15.5″ x 22″

7510-01-600-7564/Monthly Wall Calendar, Dated 2017, Jan-Dec, 8½″ x 11″

7510-01-600-7622/Wall Calendar, Dated 2017, Wire Bound w/Hanger, 12″ x 17″

7530-01-600-7578/Daily Desk Planner, Dated 2017, Wire bound, Non-refillable, Black Cover

7530-01-600-7592/Weekly Desk Planner, Dated 2017, Wire Bound, Non-refillable, Black Cover

7530-01-600-7600/Weekly Planner Book, Dated 2017, 5″ x 8″, Digital Camouflage

7530-01-600-7611/Monthly Desk Planner, Dated 2017, Wire Bound, Non-refillable, Black Cover

Mandatory Source of Supply: Chicago Lighthouse Industries, Chicago, IL

Contracting Activity: GSA/FSS OFC SUP CTR—PAPER PRODUCTS, NEW YORK, NY

NSN/Product Name: 7510-01-600-8034/Dated 2017 12-Month 2-Sided Laminated Wall Planner, 24″ x 37″

Contracting Activity: GSA/FSS HOUSEHOLD AND INDUSTRIAL FURNITURE

NSN/Product Name: 3990-00-NSH-0078/Pallet, Treated Wood, 70″ x 42″

Contracting Activity: DEPT OF JUST/FEDERAL PRISON SYSTEM

NSNs/Product Names:

8415-01-542-8496—Jacket, Loft, Extreme Cold Weather Level 7, Type 2, PCU, Army, Alpha Green, MR

8415-01-542-8497—Jacket, Loft, Extreme Cold Weather Level 7, Type 1, PCU, Army, Alpha Green, LR

8415-01-542-8498—Jacket, Loft, Extreme Cold Weather Level 7, Type 2, PCU, Army, Alpha Green, XL

8415-01-542-8499—Jacket, Loft, Extreme Cold Weather Level 7, Type 2, PCU, Army, Alpha Green, XL

8415-01-542-8500—Jacket, Loft, Extreme Cold Weather Level 7, Type 2, PCU, Army, Alpha Green, XXL

8415-01-542-8501—Jacket, Loft, Extreme Cold Weather Level 7, Type 2, PCU, Army, Alpha Green, XXLL

8415-01-542-8502—Jacket, Loft, Extreme Cold Weather Level 7, Type 2, PCU, Army, Alpha Green, XS

8415-01-542-8504—Jacket, Loft, Extreme Cold Weather Level 7, Type 1, PCU, Army, Alpha Green, LL

8415-01-542-8505—Jacket, Loft, Extreme Cold Weather Level 7, Type 2, PCU, Army, Alpha Green, XXXLL

8415-01-542-8575—Trousers, Loft Level 7, ECWCS, PCU, Army, Alpha Green, XXLL

8415-01-542-8576—Trousers, Loft Level 7, ECWCS, PCU, Army, Alpha Green, XXXLL

8415-01-542-8577—Trousers, Loft Level 7, ECWCS, PCU, Army, Alpha Green, XXXLL

8415-01-542-8580—Trousers, Loft Level 7, ECWCS, PCU, Army, Alpha Green, LL

8415-01-542-8581—Trousers, Loft Level 7, ECWCS, PCU, Army, Alpha Green, MR

8415-01-542-8582—Trousers, Loft Level 7, ECWCS, PCU, Army, Alpha Green, SR

8415-01-542-8584—Trousers, Loft Level 7, ECWCS, PCU, Army, Alpha Green, XL

8415-01-542-8586—Trousers, Loft Level 7, ECWCS, PCU, Army, Alpha Green, XXL

8415-01-542-8587—Trousers, Loft Level 7, ECWCS, PCU, Army, Alpha Green, XLL

8415-01-542-8588—Trousers, Loft Level 7, ECWCS, PCU, Army, Alpha Green, XS

8415-01-542-8589—Trousers, Loft Level 7, ECWCS, PCU, Army, Alpha Green, LR

8415-01-543-0377—Vest, Loft, Rainproof, Level 7, PCU, Army, Alpha Green, XXXLL

8415-01-543-0382—Vest, Loft, Rainproof, Level 7, PCU, Army, Alpha Green, XXL

8415-01-543-0384—Vest, Loft, Rainproof, Level 7, PCU, Army, Alpha Green, LR

8415-01-543-0386—Vest, Loft, Rainproof, Level 7, PCU, Army, Alpha Green, XXXLL

8415-01-543-0391—Vest, Loft, Level 7 Epic by Nextec, PCU, Army, Alpha Green, SR

8415-01-543-0392—Vest, Loft, Level 7 Epic by Nextec, PCU, Army, Alpha Green, MR

8415-01-543-0396—Vest, Loft, Rainproof, Level 7, PCU, Army, Alpha Green, LL

8415-01-543-0399—Vest, Loft, Rainproof, Level 7, PCU, Army, Alpha Green, XL

8415-01-543-0401—Vest, Loft, Rainproof, Level 7, PCU, Army, Alpha Green, XLL

8415-01-543-0403—Vest, Loft, Rainproof, Level 7, PCU, Army, Alpha Green, XXXLL

8415-01-543-0404—Vest, Loft, Level 7 Epic by Nextec, PCU, Army, Alpha Green, XS

8415-01-543-1605— Jacket, Loft, Extreme Cold Weather Level 7, PCU, Type 1, Army, Alpha Green, XXXL

8415-01-543-1613—Jacket, Loft, Extreme Cold Weather Level 7, Type 1, PCU, Army, Alpha Green, SR

8415-01-543-7022—Pants, Loft, Level 7, PCU, Army, Alpha Green, ML

8415-01-543-7042—Jacket, Loft, Extreme Cold Weather Level 7, Type 1, PCU, Army, Alpha Green, ML

8415-01-576-2044—Jacket, Wet Weather Level 6, PCU, Army, Men's, Desert Camouflage, XSR

8415-01-576-0098—Jacket, Wet Weather Level 6, PCU, Army, Men's, Desert Camouflage, MR

8415-01-576-2048—Jacket, Wet Weather Level 6, PCU, Army, Men's, Desert Camouflage, XXL

8415-01-543-7044 PCU Level 7 Loft Vest Alpha Green ML

Contracting Activity: W6QK ACC-APG NATICK, DEPT OF THE ARMY

Service

Service Type/Location: Custodial Services/Little Creek Naval Amphibious Base, Norfolk, VA

Mandatory Source of Supply: Didlake, Inc., Manassas, VA

Contracting Activity: DEPT OF THE NAVY, NAVAL FAC ENGINEERING CMD MID LANT.

Patricia Briscoe,
Deputy Director, Business Operations, (Pricing and Information Management).

[FR Doc. 2017-25545 Filed 11-24-17; 8:45 am]

BILLING CODE 6353-01-P